DEPARTMENT OF THE TREASURY

Internal Revenue Service

26 CFR Parts 1 and 31

[REG-146893-02; REG-115037-00; REG-138603-03]

RIN 1545-BB31, 1545-AY38, 1545-BC52

Treatment of Services Under Section 482 Allocation of Income and Deductions From Intangibles Stewardship Expense

AGENCY: Internal Revenue Service, Treasury.

ACTION: Notice of public hearing on proposed rulemaking.

SUMMARY: This document contains a notice of public hearing on proposed regulations relating to the treatment of controlled services transactions under section 482.

DATES: The public hearing is being held on October 27, 2006, at 10 a.m. The IRS must receive outlines of the topics to be discussed at the hearing by October 6, 2006. Written or electronic comments must be received by October 6, 2006.

ADDRESSES: The public hearing is being held in the auditorium of the New Carrollton Federal Building, 5000 Ellin Road, Lanham, MD 20706. Submissions may be sent to: CC:PA:LPD:PR (REG-146893-02; REG-115037-00; REG-138603-03), Internal Revenue Service, POB 7604, Ben Franklin Station, Washington, DC 20044. Alternatively, submissions may be sent electronically, via the IRS Internet site at http://www.irs.gov/regs or via Federal eRulemaking Portal at http://www.regulations.gov (IRS REG-146983-02, REG-115037-00, and REG-138603-03).

FOR FURTHER INFORMATION CONTACT: Concerning submission of comments, the hearing, and/or to be placed on the building access to attend the hearing, Kelly Banks at (202) 622-0392 (not a toll-free number) or by e-mail at Kelly.d.banks@irscounsel.treas.gov.

SUPPLEMENTARY INFORMATION: The subject of the public hearing is the notice of proposed rulemaking (REG-146893-02; REG-115037-00; REG-138603-03) that was published in the Federal Register on August 4, 2006 (71 FR 44247).

The rules of 26 CFR 601.601(a)(3) apply to the hearing.

A period of 10 minutes is allotted to each person for presenting oral comments. The IRS will prepare an agenda containing the schedule of speakers. Copies of the agenda will be made available, free of charge, at the hearing.

Because of access restriction, the IRS will not admit visitors beyond the immediate entrance area more than 30 minutes before the hearing starts. For information about having your name placed on the building access list to attend the hearing, see the FOR FURTHER INFORMATION CONTACT section of this document.

Guy R. Traynor,
Branch Chief, Publications and Regulations Branch, Legal Processing Division, Associate Chief Counsel (Procedure and Administration).

[FR Doc. E6-13530 Filed 8-16-06; 8:45 am]

BILLING CODE 4830-01-P